DEPARTMENT OF COMMERCE

National Oceanic and Atmospheric Administration

50 CFR Part 660

[Docket No. 140904754-5188-02]

RIN 0648-BF08

Magnuson-Stevens Act Provisions; Fisheries Off West Coast States; Pacific Coast Groundfish Fishery; 2015-2016 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to protect overfished and depleted stocks while allowing fisheries to access more abundant groundfish stocks.

DATES: This final rule is effective June 1, 2015.

FOR FURTHER INFORMATION CONTACT: Gretchen Hanshew, phone: 206-526-6147, fax: 206-526-6736, or email: gretchen.hanshew@noaa.gov.

SUPPLEMENTARY INFORMATION:

Electronic Access

This rule is accessible via the Internet at the Office of the Federal Register Web site at https://www.federalregister.gov. Background information and documents are available at the Pacific Fishery Management Council's Web site at http://www.pcouncil.org/. Copies of the final environmental impact statement (FEIS) for the Groundfish Specifications and Management Measures for 2015-2016 and Biennial Periods Thereafter are available from Donald McIsaac, Executive Director, Pacific Fishery Management Council (Council), 7700 NE. Ambassador Place, Portland, OR 97220, phone: 503-820-2280.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

The final rule to implement the 2015-2016 harvest specifications and management measures for most species of the Pacific coast groundfish fishery was published on March 10, 2015 (80 FR 12567).

The Council, in coordination with Pacific Coast Treaty Indian Tribes and the States of Washington, Oregon, and California, recommended changes to current groundfish management measures at its April 10-16, 2015, meeting. Specifically, the Council recommended implementing a trip limit for big skate in the Shorebased Individual Fishing Quota (IFQ) Program and scheduled re-consideration of the stocks ecosystem component (EC) species designation. Consistent with the Council's recommendation and regulations at § 660.12, NMFS is implementing the trip limit and a sorting requirement for big skate in the Shorebased IFQ Program.

Harvest and Management of Big Skate

Up until 2015, big skate was managed as a component stock within the Other Fish complex. The Other Fish complex was comprised of several skate species and other species where catch was low and little information was available to inform stock status. Best available estimates of the overfishing limit (OFL) for component stocks contributed to the OFL harvest specification that was set at for the Other Fish complex. For additional description of the methods used for calculating OFLs for component stocks that are managed in a complex, see proposed rule for the 2011-2012 harvest specifications and management measures (75 FR 67810, November 3, 2010).

During development of the 2015-2016 harvest specifications and management measures the Council, based on the best information available when they made their final recommendation, recommended removing skates except for longnose skate from the Other Fish complex and designating most of the skates including big skate as EC species. NMFS approved and implemented that recommendation. Best estimates of mortality at that time indicated that harvest of big skate was 18 percent of the big skate contribution to the Other Fish OFL. Big skate was designated as an EC species because best available scientific information indicated that it was not in need of conservation and management and that it generally met many of the criteria for EC species designation outlined in the National Standard 1 Guidelines.

Since that time, new information indicates that mortality of big skate is approaching or exceeding the 2014 big skate contribution to the Other Fish OFL and therefore big skate may not be appropriately designated as an EC species. Therefore, at the April meeting, the Council considered management measures to reduce mortality of big skate to a level at or below its 2014 OFL contribution while the Council, its Scientific and Statistical Committee (SSC), and NMFS determine how and when to reclassify big skate.

In conjunction with the EC species designation, impacts to the species are monitored to inform whether the designation should be reconsidered based on new information. At its 2015 April meeting, the Council considered new information indicating landings of “unspecified skate” were predominantly big skate (over 90 percent) and therefore recent mortality of big skate may be much closer to the 2014 big skate contribution to the Other Fish OFL than previously believed.

Big skate landings are currently sorted and accounted for at a species-specific level in California, but the states of Oregon and Washington report big skate landings combined with other skate species within “unspecified” and “other” skate categories. As described in statements from the Council's Groundfish Management Team at the April meeting, a coastwide total mortality estimate for big skate was developed using a methodology endorsed by the SSC. Based on this estimate, harvest of big skate in 2014 may have been as high as 500 mt, exceeding the 2014 big skate contribution to the Other Fish OFL of 458 mt. Because in 2014 big skate contributed to the Other Fish complex OFL, and estimated catch of other species in the complex was lower than their respective contributions, the OFL for the Other Fish complex was not exceeded. Therefore, this level of catch of big skate is not overfishing by definition. However, it raised concerns that harvest of the stock may be above the fishing level that would maintain maximum sustainable yield (MSY), and that the designation of this stock as an EC species may not be appropriate.

Reducing Impacts to Big Skate

To reduce the risk of overfishing big skate, the Council considered options for taking inseason action to reduce harvest to a level below the best estimate of the OFL; the 2014 OFL contribution of 458 mt. The Council also considered what changes to management measures would be necessary to reduce catch to a level below the big skate acceptable biological catch (ABC) contribution of 318 mt to the Other Fish ABC.

Based on available information from the Pacific Fisheries Information Network (PacFIN), catch of big skate occurs predominantly by vessels using bottom trawl gear, which is used primarily in the Shorebased IFQ Program. The Council and NMFS may implement trip limits for big skate as a routine management measure for the Shorebased IFQ Program. Since an action to reduce big skate landings in the Shorebased IFQ Program is anticipated to reduce total impacts to the stock, and because the Council and NMFS can take swift inseason action, the Council dismissed alternatives involving creation of new management measures for other sectors of the groundfish fishery that harvest less big skate. Therefore, the changes to management measures described in this action will apply only to vessels participating in the Shorebased IFQ Program.

The Council considered setting a trip limit for big skate in the Shorebased IFQ Program, beginning in June 2015. A range of trip limits was considered: Unlimited, a high trip limit (37,500 lb per two months) estimated to bring total mortality just below the OFL contribution, and a low trip limit (2,000 lb per two months) estimated to bring total mortality just below the ABC contribution. The Council's recommended a trip limit that was more precautionary than 37,000 lbs per two months but much less restrictive than the 2,000 lbs per two months trip limit to maximize opportunity, while keeping mortality estimates below the OFL contribution. The Council recommended and NMFS is implementing a trip limit reduction from “unlimited” to “15,000 lb per month” for the month of June, and “20,000 lbs per two months” in periods 4-6 (from July through December). Best estimates indicate that total mortality of big skate through the end of 2015 under this trip limit structure would be 441 mt, 17 mt lower than the 2014 OFL contribution of 458 mt. The Council-recommended trip limits are added to Tables 1 (North) and 1 (South) to Subpart C.

It is prohibited for first receivers and catcher vessels in the Shorebased IFQ Program to fail to sort any species with a trip limit (though timing and weighing methods may vary, as described in § 660.140(j)). This is because sorting must occur to account for catch of each species or species group against the applicable trip limit. Analyses presented to the Council at its April 2015 meeting indicated that sorting is necessary for trip limits to be effectively implemented. Therefore, in order to effectively implement the Council's recommended trip limits, NMFS is including in this inseason action the addition of big skate to the list of species required to be sorted under the Shorebased IFQ Program, at § 660.130(d).

The Council acknowledged that the mortality estimates and the OFL contribution have a high degree of uncertainty, and recommended these precautionary management measures described above to reduce the risk of overfishing big skate. Additionally, these measures will increase the amount of species-specific landings information, thereby reducing the uncertainty in estimated landings for both big skate and “unspecified” skates. This information will likely prove useful when the Council considers reclassifying big skate in the future.

Reconsideration of EC Species Designation

The Council recommended that reconsideration of the stock's EC species designation be incorporated into development of the 2017-2018 harvest specifications and management measures. That 2017-2018 biennial management process begins at the Council's June 2015 meeting, and will continue into the following year. If a change is made to re-designate big skate as “in the fishery,” then harvest specifications for this species would be necessary; therefore it is opportune to consider re-designation of big skate within the biennial harvest specifications process.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective June 1, 2015.

New information regarding the likely historical catch of big skate was presented to the Council at its April 2015 meeting. At that meeting, the Council recommended that these changes be implemented June 1, 2015, which is the beginning of a cumulative limit period in the commercial groundfish fishery off the West Coast. These restrictions to the amount of landings must be implemented at the start of a cumulative limit period to allow fishermen in the Shorebased IFQ Program an opportunity to continue harvesting big skate, but at a level that will not exceed the new, lower trip limit that will be imposed for the cumulative limit period. If this limit is not in place by the start of the cumulative limit period, a vessel that landed an amount greater than these limits early in the cumulative limit period would find themselves in violation of this new, lower trip limit. The trip limits recommended by the Council and implemented by NMFS in this action are anticipated to keep catch of big skate below its contribution to the Other Fish OFL, if implemented on June 1. If the recommended limits are not in place June 1, more restrictive measures may be necessary later in the year to keep catch of big skate below its contribution to the Other Fish OFL. There was not sufficient time after the April meeting to undergo proposed and final rulemaking before June 1. For the actions to be implemented in this final rule, affording the time necessary for prior notice and opportunity for public comment would prevent NMFS from managing fisheries using the best available science to prevent overfishing in accordance with the PCGFMP and applicable law. It would be contrary to the public interest to delay implementation of these changes until after public notice and comment, because making this regulatory change by June 1, 2015, allows harvest as intended by the Council, consistent with the best scientific information available. These changes allow continued harvest in fisheries that are important to coastal communities while continuing to prevent potential overfishing.

No aspect of this action is controversial, and changes of this nature were anticipated in the biennial harvest specifications and management measures established for 2015-2016.

Accordingly, for the reasons stated above, NMFS finds good cause to waive prior notice and comment and to waive the delay in effectiveness.

List of Subjects in 50 CFR Part 660

Fisheries, Fishing, and Indian fisheries.

Dated: June 1, 2015.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.130, revise paragraph (d)(1)(i) to read as follows:

§ 660.130 Trawl fishery—management measures.

* * * * *

(d) * * *

(1) * * *

(i) Coastwide. Widow rockfish, canary rockfish, darkblotched rockfish, yelloweye rockfish, shortbelly rockfish, black rockfish, blue rockfish, minor nearshore rockfish, minor shelf rockfish, minor slope rockfish, shortraker rockfish, rougheye/blackspotted rockfish, shortspine and longspine thornyhead, Dover sole, arrowtooth flounder, petrale sole, starry flounder, English sole, other flatfish, lingcod, sablefish, Pacific cod, spiny dogfish, other fish, longnose skate, and Pacific whiting; and big skate in the Shorebased IFQ Program;

* * * * *

3. Table 1 (North) and 1 (South) to part 660, subpart D, are revised to read as follows:

BILLING CODE 3510-22-P

[FR Doc. 2015-13635 Filed 6-1-15; 4:15 pm]

BILLING CODE 3510-22-C